DEPARTMENT OF HEALTH AND HUMAN SERVICES

Office of the Secretary

[Document Identifier: HHS-OS-20557-New-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for a new collection. Comments submitted during the first public review of this ICR will be provided to OMB. OMB will accept further comments from the public on this ICR during the review and approval period.

DATES: Comments on the ICR must be received on or before January 27, 2014.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the Information Collection Request Title and document identifier: HHS-OS-20557-New-30D for reference.

Information Collection Request Title: Office of Adolescent Health (OAH) Pregnancy Assistance Fund (PAF) Performance Measures Collection: HHS-OS-0990-NEW-PAF.

Abstract: The Pregnancy Assistance Fund (PAF) is a competitive grant program authorized by the Patient Protection and Affordable Care Act (Public Law 111-148) and administered by the Office of Adolescent Health (OAH). PAF provides funding to States and Tribes to provide expectant and parenting teens and women with a seamless network of supportive services to help them complete high school or postsecondary degrees and gain access to health care, child care, family housing, and other critical supports. The Act appropriates $25 million for each of fiscal years 2010 through 2019, and in July 2013, OAH awarded grants to 17 entities for four years. Grantees may use PAF grants to carry out activities in any of the following four implementation categories: (1) Support pregnant and parenting student services at institutions of higher education (IHE); (2) Support pregnant and parenting teens at high schools and community service centers; (3) Improve services for pregnant women who are victims of domestic violence, sexual violence, sexual assault, and stalking; and (4) Increase public awareness and education efforts about services available to pregnant and parenting teens and women.

This request is for a 3-year approval of the collection of PAF performance data. This is an annual reporting requirement of all PAF grantees. The reporting requirement varies according to the type(s) of activities implemented by each grantee. All PAF grantees are required to report a standard set of data elements that capture the demographic and social characteristics of the individuals served (“participants”) and the number and types of organizations that participate in implementing the project. In addition, grantees are required to report data for a set of measures defined for each implementation category.

Need and Proposed Use of the Information: The collection of annual performance data is important to OAH because it will provide OAH leadership and PAF program administrators with data needed to administer the PAF program and manage PAF awards and projects, including information to assess beneficiary characteristics; measure and monitor project implementation, outputs, and outcomes; and comply with reporting requirements specified in the Affordable Care Act. In addition, OAH will use the performance data to inform planning and resource allocation decisions; identify training, technical assistance, and evaluation needs; and provide Congress, OMB, and the general public with information about the individuals who participate in PAF-funded activities and the range and scope of services they receive.

Likely Respondents: States and Tribes that are PAF grant awardees.

Burden Statement: Burden in this context means the time expended by persons to generate, maintain, retain, disclose, or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The table below summarizes the total annual burden hours estimated for this ICR.

Total Estimated Annualized Burden—Hours
Form name | Type of respondent | Number of responses per respondent | Number of responses per respondent | Average burden hours per respondent | Total burden hours
Participant & Partner Characteristics (17 measures) | All Grantees | 17 | 1 | 19 | 323
Category 1 Measures (4 measures) | Category 1 Grantees: Implementing activities to support pregnant and parenting student services at institutions of higher education | 2 | 1 | 6 | 12
Category 2 Measures (6 measures) | Category 2 Grantees: Implementing activities to support pregnant and parenting teens at high schools and community service centers | 14 | 1 | 9 | 126
Category 3 Measures (2 measures) | Category 3 Grantees: Implementing activities to improve services for pregnant women who are victims of domestic violence, sexual violence, sexual assault, and stalking; | 6 | 1 | 3 | 18
Category 4 Measures (1 measures) | Category 4 Grantees: Implementing public awareness and education activities | 13 | 1 | 1 | 13
Total |  | 17 |  |  | 492

Darius Taylor,
Deputy, Information Collection Clearance Officer.

[FR Doc. 2013-30839 Filed 12-24-13; 8:45 am]

BILLING CODE 4168-11-P